COMMISSION ON OCEAN POLICY

Public Meeting

AGENCY: U.S. Commission on Ocean Policy.

ACTION: Notice; change of meeting time.

SUMMARY: The U.S. Commission on Ocean Policy will hold its first regional meeting, the Commission's third public meeting, to hear and discuss issues of concern to the Southeastern Region of the United States, covering the coastal area from Delaware to Georgia. Notice of this meeting was originally published on December 20, 2001. The purpose of this second notice is to provide new meeting times.

DATES: Meetings will now be held Tuesday, January 15, 2002 from 8:30 a.m. to 6:20 p.m. and Wednesday, January 16, 2002 from 8:45 a.m. to 5:00 p.m.

ADDRESSES: The meeting location is the Physicians Memorial Auditorium, College of Charleston, 66 George Street, Charleston, SC, 29424.

FOR FURTHER INFORMATION CONTACT: Mr. Terry Schaff, U.S. Commission on Ocean Policy, 1120 20th Street, NW, Washington, DC 20036, 202-418-3442, tschaff@nsf.gov.

SUPPLEMENTARY INFORMATION: This meeting is being held pursuant to requirements under the Oceans Act of 2000 (Public Law 106-256, Section 3(e)(1)(E)). The agenda will include presentations by invited speakers representing local and regional government agencies and non-governmental organizations, comments from the public and any required administrative discussions and executive sessions. Invited speakers and members of the public are requested to submit their statements for the record electronically by January 10, 2002 to the meeting Point of Contact. Additional meeting information, including a draft agenda, will be posted as available on the Commission's web site at http://www.oceancommission.gov.

Dated: January 3, 2002.
Admiral James D. Watkins,
USN (ret.), Chairman, U.S. Commission on Ocean Policy.

[FR Doc. 02-484 Filed 1-8-02; 8:45 am]

BILLING CODE 6820-WM-P